DEPARTMENT OF LABOR

Office of the Secretary

Submission for OMB Review: Comment Request

November 21, 2007.

The Department of Labor (DOL) hereby announces the submission the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316 / Fax: 202-395-6974 (these are not a toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Bloodborne Pathogens Standard (29 CFR § 1910.1030).

OMB Control Number: 1218-0180.

Affected Public: Private Sector: Business or other for-profits and Not-for-profit institutions.

Estimated Number of Respondents: 632,236.

Estimated Total Annual Burden Hours: 14,059,435.

Estimated Total Annual Costs Burden: $23,774,874.

Description: The Bloodborne Pathogen Standard (29 CFR 1910.1030) is an occupational safety and health standard that prevents occupational exposure to bloodborne pathogens. The standard's information-collection requirements are essential components that protect employees from occupational exposure. The information is used by employers and employees to implement the protection required by the Standard. OSHA compliance officers will use some of the information in their enforcement of the Standard. For additional information, please refer to a related notice published on July 27, 2007 at 72 FR 41357.

Darrin A. King,
Acting Departmental Clearance Officer.

[FR Doc. E7-23030 Filed 11-26-07; 8:45 am]

BILLING CODE 4510-26-P